DEPARTMENT OF THE INTERIOR

Fish and Wildlife Service

Information Collection Sent to the Office of Management and Budget (OMB) for Approval; OMB Control Number 1018-0132; Research to Support Outdoor Recreation Management at Lake Umbagog National Wildlife Refuge - Phase 2

AGENCY: Fish and Wildlife Service, Interior.

ACTION: Notice; request for comments.

SUMMARY: We (Fish and Wildlife Service) have sent an Information Collection Request (ICR) to OMB for review and approval. The ICR, which is summarized below, describes the nature of the collection and the estimated burden and cost. This ICR is scheduled to expire on May 31, 2007. We may not conduct or sponsor and a person is not required to respond to a collection of information unless it displays a currently valid OMB control number.

DATES: You must submit comments on or before June 25, 2007.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey by mail, fax, or e-mail (see ADDRESSES), or by telephone at (703) 358-2482.

SUPPLEMENTARY INFORMATION:

OMB Control Number: 1018-0132.

Title: Research to Support Outdoor Recreation Management at Lake Umbagog National Wildlife Refuge - Phase 2.

Service Form Number(s): 3-2330 and 3-2330A.

Type of Request: New collection.

Affected Public: Visitors to and camp/home owners near Lake Umbagog National Wildlife Refuge.

Respondent's Obligation: Voluntary.

Frequency of Collection: One time.

Estimated Annual Number of Respondents: 500 (250 per survey).

Estimated Total Annual Responses: 500 (250 per survey).

Estimated Time Per Response: 15 minutes for visitor survey; 20 minutes for camp/home owner survey.

Estimated Total Annual Burden Hours: 146.

Abstract: Lake Umbagog National Wildlife Refuge (NWR), located in northern New Hampshire and Maine, contains significant natural and recreational resources. In 2006, we began a research study to gather information to help support application of visitor carrying capacity at the refuge. We conducted a survey of visitors to the refuge to determine relevant indicators of quality for the visitor experience. Indicators of quality are measurable, manageable variables that reflect the essence or meaning of management objectives.

We have asked OMB to renew this information collection to include phase 2 of this study. During phase 2, we plan to survey visitors and nearby camp and home owners to identify standards of quality for relevant indicator variables and to determine attitudes toward management actions that we might use to ensure that the standards of quality are maintained.

We propose to conduct two separate surveys. One survey will include a sample of visitors to Lake Umbagog NWR and the second survey will include private camp and home owners adjacent to the refuge. We will collect the same information during both surveys; however, we will ask camp and home owners for additional information about how often they use the refuge.

Comments: On February 22, 2007, we published in the Federal Register (72 FR 8003) a notice of our intent to request that OMB approve this information collection. In that notice, we solicited comments for 60 days, ending on April 23, 2007. We received one comment.

The commenter objected to the use of Lake Umbagog NWR for hunting, trapping, and related recreational uses. Legislation creating this and other units of the National Wildlife Refuge System specifically allows for these public uses. In addition, the National Wildlife Refuge Improvement Act of 1997 (16 U.S.C. 668dd), which guides planning and management of the National Wildlife Refuge System, identifies six wildlife-dependent recreational uses that should be given priority and provides a process for ensuring that these and other activities do not conflict with the management purpose and goals of each refuge. The commenter also suggested that we use results from a nationwide survey about the recreational habits of citizens of the United States for planning at Lake Umbagog NWR instead of the proposed survey. While the survey mentioned by the commenter may be useful for tracking national recreational trends, information about appropriate use levels for specific indicators of quality at Lake Umbagog NWR can only be obtained from the proposed surveys. The information that we will collect is important especially at Lake Umbagog NWR. U.S. Senate Report 108-371 notes increasing concern at this refuge over growing recreational use and its potential impacts on sensitive wildlife populations.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: May 1, 2007
Hope Grey,
Information Collection Clearance Officer, Fish and Wildlife Service.

[FR Doc. E7-10115 Filed 5-24-07; 8:45 am]

Billing Code 4310-55-S